DEPARTMENT OF HOMELAND SECURITY

Coast Guard

33 CFR Part 117

[Docket No. USCG-2010-1058]

Drawbridge Operation Regulation; Upper Mississippi River, Burlington, IA

AGENCY: Coast Guard, DHS.

ACTION: Notice of temporary deviation from regulations.

SUMMARY: The Commander, Eighth Coast Guard District, has issued a temporary deviation from the regulation governing the operation of the Burlington Railroad Drawbridge across the Upper Mississippi River, mile 403.1, at Burlington, Iowa. The deviation is necessary to allow the bridge owner time to replace the swing span with a lift span and to construct the right descending tower. This deviation allows the bridge to be maintained in the closed-to-navigation position for sixty-two days.

DATES: This deviation is effective from 6 a.m., December 15, 2010 to 6 a.m. February 15, 2011.

ADDRESSES: Documents mentioned in this preamble as being available in the docket are part of docket USCG-2010-1058 and are available online by going to http://www.regulations.gov, inserting USCG-2010-1058 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Eric A. Washburn, Bridge Administrator, Western Rivers, Coast Guard; telephone 314-269-2378, e-mail Eric.Washburn@uscg.mil. If you have questions on viewing the docket, call Renee V. Wright, Program Manager, Docket Operations, telephone 202-366-9826.

SUPPLEMENTARY INFORMATION: The BNSF Railway Company requested a temporary deviation for the Burlington Railroad Drawbridge, across the Upper Mississippi River, mile 403.1, at Burlington, Iowa to remain in the closed-to-navigation position for 62 days from 6 a.m., December 15, 2010 to 6 a.m., February 15, 2011 to allow the bridge owner time to complete the Truman-Hobbs alteration. The new lift span will be set in place and the right descending tower will be completed. The Burlington Railroad Drawbridge currently operates in accordance with 33 CFR 117.5, which states the general requirement that drawbridges shall open promptly and fully for the passage of vessels when a request to open is given in accordance with the subpart.

There are no alternate routes for vessels transiting this section of the Upper Mississippi River.

The Burlington Railroad Drawbridge, in the closed-to-navigation position, will provide a vertical clearance of 19.3 feet above normal pool. Navigation on the waterway consists primarily of commercial tows and recreational watercraft. The drawbridge will not be able to open for emergencies during the construction period. This temporary deviation has been coordinated with waterway users.

In accordance with 33 CFR 117.35(e), the drawbridge must return to its regular operating schedule immediately at the end of the designated time period. This deviation from the operating regulations is authorized under 33 CFR 117.35.

Dated: November 26, 2010.
Eric A. Washburn,
Bridge Administrator.

[FR Doc. 2010-30744 Filed 12-7-10; 8:45 am]

BILLING CODE 9110-04-P